DEPARTMENT OF AGRICULTURE

Farm Service Agency

Information Collection; Direct Loan Servicing—Special

AGENCY: Farm Service Agency, USDA.

ACTION: Notice; request for comments.

SUMMARY: In accordance with the Paperwork Reduction Act of 1995, the Farm Service Agency (FSA) is requesting comments from all interested individuals and organizations on an extension of a currently approved information collection that supports 7 CFR part 766, Direct Loan Servicing—Special programs. The information is used in eligibility and feasibility determinations on borrower requests for disaster set-aside, primary loan servicing, buyout at market value, and homestead protection, as well as liquidation of security.

DATES: We will consider comments that we receive by January 20, 2015.

ADDRESSES: We invite you to submit comments on this notice. In your comments, include date, volume, and page number of this issue of the Federal Register. You may submit comments by any of the following methods:

• Federal eRulemaking Portal: Go to www.regulations.gov. Follow the online instructions for submitting comments.

• Mail: Tamara L. Wilson, Senior Loan Officer, USDA/FSA/FLP, STOP 0523, 1400 Independence Avenue SW., Washington, DC 20250-0503.

You may also send comments to the Desk Officer for Agriculture, Office of Information and Regulatory Affairs, Office of Management and Budget, Washington, DC 20503. Copies of the information collection may be requested by contacting Tamara L. Wilson at the above address.

FOR FURTHER INFORMATION CONTACT: Tamara L. Wilson, (202) 690-4012.

SUPPLEMENTARY INFORMATION: Title: Farm Loan Programs Direct Loan Servicing—Special.

OMB Number: 0560-0233.

Expiration Date: 06/30/2015.

Type of Request: Extension.

Abstract: FSA's Farm Loan Programs provide loans to family farmers to purchase real estate and equipment and finance agricultural production. Direct Loan Servicing—Special, found at 7 CFR part 766, provides the requirements for servicing financially distressed and delinquent direct loan borrowers. FSA's loan servicing options include disaster set-aside, primary loan servicing (including reamortization, rescheduling, deferral, write down and conservation contracts), buyout at market value, and homestead protection. FSA also services borrowers who file bankruptcy or liquidate security when available servicing options are not sufficient to produce a feasible plan. The information collections contained in the regulation are necessary to evaluate a borrower's request for consideration of the special servicing actions.

The formula used to calculate the total burden hour is estimated average time per responses hours times total annual responses.

Estimate of Respondent Burden: Public reporting burden for this information collection is estimated to average 0.58 hours per response. The average travel time, which is included in the total burden, is estimated to be 1 hour per respondent.

Respondents: Individuals or households, businesses or other for profit farms.

Estimated Annual Number of Respondents: 14,934.

Estimated Number of Reponses per Respondent: 1.9.

Estimated Total Annual Responses: 27,923.

Estimated Average Time per Response: 0.58.

Estimated Total Annual Burden on Respondents: 15,858.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed on November 13, 2014.
Candance Thompson,
Acting Administrator, Farm Service Agency.

[FR Doc. 2014-27434 Filed 11-20-14; 8:45 am]

BILLING CODE 3410-05-P